DEPARTMENT OF EDUCATION

Jacob K. Javits Gifted and Talented Education Program: National Research and Development Center

AGENCY: Office of Educational Research and Improvement, Department of Education.

ACTION: Notice of final priority.

SUMMARY: The Assistant Secretary for the Office of Educational Research and Improvement (OERI) announces a final priority under the Jacob K. Javits Gifted and Talented Education Program—National Research and Development Center (Center). The Assistant Secretary will use this priority for the Center competition in fiscal year (FY) 2000. This priority focuses on research to obtain a better understanding of the reasons for the under-representation of students from some minority groups among top performing students, and on analyzing national data sets to better understand the educational status of and opportunities for gifted and talented, high-achieving or high ability students in the United States.

EFFECTIVE DATE: This priority is effective July 13, 2000.

FOR FURTHER INFORMATION CONTACT: Beverly Coleman, U.S. Department of Education, 555 New Jersey Avenue, NW., room 611A, Washington, DC 20202-5521. Telephone: (202) 219-2280. If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION: OERI administers the Jacob K. Javits Gifted and Talented Students Education Act of 1994 (Javits Act), which is authorized under Part B of Title X of the Elementary and Secondary Education Act (ESEA) (20 U.S.C 8031 et seq.). The purposes of the Javits Act are (1) to support a coordinated program of research, demonstration projects, personnel training, and similar activities designed to build a nationwide capability in elementary and secondary schools to meet the special educational needs of gifted and talented students; (2) to encourage rich and challenging curricula for all students through the appropriate application and adaptation of materials and instructional methods used with gifted and talented students; and (3) to supplement and make more effective the expenditure of State and local funds devoted to gifted and talented students.

The Secretary is authorized, under the Javits Act, to create a national research center to carry out: (1) Research on methods and techniques for identifying and teaching gifted and talented students, and for using gifted and talented education programs and methods to serve all students; and (2) program evaluations, surveys, and the collection, analysis, and development of information needed to accomplish the purposes of the Act.

The Javits Act gives the highest priority to: (1) Identifying and serving gifted and talented students who may not be identified and served through traditional assessment methods (including economically disadvantaged, individuals of limited-English proficiency, and individuals with disabilities); and (2) programs and projects designed to develop or improve the capability of schools in an entire State or region of the Nation through the cooperative efforts of State and local educational agencies, institutions of higher education, and other public and private agencies.

There continues to be significant under-representation of some minority groups among top-performing students across the nation. In one national sample, only ten percent of top performing students are African-American, Latino, or Native American, even though they make up about 30 percent of the population. More research is needed to better understand the reasons for these gaps in achievement among top-performing students, and on methods for overcoming these gaps.

In addition, important information on gifted and talented high-ability and high achieving students is contained in a number of national and international studies. These include the National Education Longitudinal Study (NELS), the Early Childhood Longitudinal Study, and the National Assessment of Educational Progress (NAEP), and the Third International Mathematics and Science Study (TIMSS), among others. In most cases, secondary analyses of these studies have not been conducted to examine the status of educational opportunities for gifted and talented, high-ability, and high-achieving students in the United States.

The Assistant Secretary for the Office of Educational Research and Improvement published a notice of proposed priority for this program in the Federal Register on March 27, 2000 (65 FR 16290). There are no differences between the notice of proposed priority and this notice of final priority.

Analysis of Comments and Changes

In response to the Assistant Secretary's invitation in the notice of proposed priority, four parties submitted comments on the proposed priority. An analysis of the comments and of the changes in the priority since publication of the notice of proposed priority follows:

Comment: Three commenters said that this priority was too narrow and limited and did not address the major unmet needs now facing the field of educating gifted students. They suggested other areas such as curriculum development, cognitive processes, the role of families in talent development, personnel preparation, program evaluation, gifted students with disabilities, gifted girls and women, and early recognition and cultivation of talent.

Discussion: We agree that there are many areas in gifted and talented education that would benefit from more research knowledge. The resources available under this program, however, are not sufficient to address all those needs adequately. In light of these circumstances, we have concluded that targeting the available resources on a few issues that are high priorities for the nation is the best way to create a body of work that will move the field forward. A central mission of the Javits Program is to increase the participation of under-represented groups in advanced educational opportunities. This issue is of the highest national interest.

Changes: None.

Comment: Three commenters questioned the use of national and international databases to provide substantive information on gifted and talented student populations.

Discussion: We agree that national data collections cannot provide all of the answers concerning the educational needs of gifted and talented students. However, the field of gifted and talented education lacks some very basic information that these national and international studies can provide. For example, how many students are served in gifted and talented program nationwide? What is the ethnic and racial composition of the students in gifted and talented programs? What happens to children who start school two or more years ahead of their peers in reading or mathematics? What opportunities optimize their educational achievement? What preschool experiences and parental styles contribute to fully developing the talents of students? Why are there achievement differences between top performing students in this country and in others?

The authorizing statute for the Javits program states that the Center carries out research and evaluation activities funded by this program. Therefore, we believe that some portion of the work done by the Center should be directed to analyzing existing national studies so that we have better information on the educational needs of gifted and talented students.

Changes: None.

Comment: One commenter said that a priority is to put into practice knowledge of exemplary practices, through a technical assistance center.

Discussion: We agree that it is important to translate knowledge of exemplary strategies into practice and to provide technical assistance in this area. As such, we are considering pursuing this goal in the future with funds from another part of that Javits Program. We believe that the funds available for the research center are limited and should remain focused on basic and applied research and evaluation in gifted and talented education.

Changes: None.

Comment: One commenter wrote in full support of the priority. The commenter reiterated the importance of focusing the research agenda on the educational needs of the growing number of underrepresented low-income and minority students with great potential.

Changes: None.

Note: This notice does not solicit applications. A notice inviting applications under this competition is published elsewhere in this issue of the Federal Register.

Priority

Under 34 CFR 75.105(c)(3) the Secretary gives an absolute preference to applications that meet the following priority. The Secretary will fund under this competition only one application that meets this absolute priority.

Priority—Research on Gifted and Talented Students

The Secretary will only fund a Center application that proposes to carry out the following activities—

(a) Conducts a coherent and sustained program of research that:

(1) Investigates the causes for disparities in achievement at the highest levels of performance among various racial and ethnic groups;

(2) Studies models for increasing the proportion of underrepresented students performing at the highest levels; and

(3) Generates findings and applications that build the capacity of teachers and schools to improve the performance of under-represented students.

(b) Informs the research carried out under paragraph (a) by conducting analyses of existing national and international databases to determine what is known about the opportunities available to, and educational outcomes of gifted and talented, high achieving or high ability students from these studies. Special attention would be given to studies that provide analyses that:

(1) Lead to a better understanding of what contributes to the educational achievement of these students, disaggregated by socio-economic status and race;

(2) Frame questions not yet being asked that will guide future discussion and inquiry;

(3) Propose new approaches to enduring problems; and

(4) Influence discussion of subsequent research, practice, and policy activities.

(c) Reserves five percent of each budget period's funds to support activities that fall within the Center's priority area, are designed and mutually agreed to by the Center and OERI, and enhance OERI's ability to carry out its mission. These activities may include developing research agenda, conducting research projects collaborating with other federally-supported entities, and engaging in research agenda setting and dissemination activities.

(d) Prepares, at the end of the award period, a report that synthesizes the findings and advances in knowledge that resulted from the Center's program of work and that describes the potential impact on the improvement of American education, including any observable impact to date.

Applicable Program Regulations: 34 CFR Part 700.

Program Authority: 20 U.S.C. 8034(c)

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-294-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number: 84.206R Jacob K. Javits National Research and Development Center for Gifted and Talented Education Program)
Dated: June 8, 2000.
C. Kent McGuire,
Assistant Secretary for Educational Research and Improvement.

[FR Doc. 00-14891 Filed 6-12-00; 8:45 am]

BILLING CODE 4000-01-U